OFFICE OF MANAGEMENT AND BUDGET

Cumulative Report on Rescissions and Deferrals

July 1, 2000.

Section 1014(e) of the Congressional Budget and Impoundment Control Act of 1974 (Public Law 93-344) requires a monthly report listing all budget authority for the current fiscal year for which, as of the first day of the month, a special message had been transmitted to Congress.

This report gives the status, as of July 1, 2000, of three rescission proposals and two deferrals contained in one special message for FY 2000. The message was transmitted to Congress on February 9, 2000.

Rescissions (Attachments A and C)

As of July 1, 2000, three rescission proposals totaling $128 million have been transmitted to the Congress. Attachment C shows the status of the FY 2000 rescission proposals.

Deferrals (Attachments B and D)

As of July 1, 2000, $485 million in budget authority was being deferred from obligation. Attachment D shows the status of each deferral reported during FY 2000.

Information From Special Message

The special message containing information on the rescission proposals and deferrals that are covered by this cumulative report is printed in the edition of the Federal Register cited below: 65 FR 9017, Wednesday, February 23, 2000.

Jacob J. Lew,
Director.

Attachment A

Status of FY 2000 Rescissions
[In millions of dollars]
| Budgetary resources
Rescissions proposed by the President | 128.0
Rejected by the Congress |
Pending before the Congress for more than 45 days (available for obligation) | −128.0
Currently before the Congress for less than 45 days |

Attachment B

Status of FY 2000 Deferrals
[In millions of dollars]
| Budgetary resources
Deferrals proposed by the President | 1,622,0
Routine Executive releases through July 1, 2000. | −1,137.2
(OMB/Agency releases of $1,153.3 million, partially offset by a cumulative postive adjustment of $16.1 million) |
Overturned by the Congress |
Currently before the Congress | 484.8

[FR Doc. 00-18855 Filed 7-25-00; 8:45 am]

BILLING CODE 3110-01-P